DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 26, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC, or at http://dms.dot.gov.

This notice of receipt of applications for special permit is published in accordance with Part 107 of the Federal hazardous materials transportation law (49 U.S.C. 5117(b); 49 CFR 1.53(b)).

Issued in Washington, DC, on February 14, 2008.
Delmer F. Billings,
Director, Office of Hazardous Materials, Special Permits and Approvals.

Application No. | Docket No. | Applicant | Regulation(s) affected | Nature of special permits thereof
New Special Permits
14640-N |  | Chem Service, Inc. Chester Count, PA | 49 CFR 173.4(a)(11) | To authorize the transportation in commerce of certain PG I hazardous materials that are not authorized for transportation aboard passenger-carrying aircraft under the small quantity provisions of 49 CFR 173.4. (modes 4, 5)
14641-N |  | Conocophillips Alaska, Inc., Anchorage, AK | 49 CFR 172.101 Hazardous Materials Table Column (9B) | To authorize the transportation in commerce by air of certain hazardous materials in packagings that exceed the quantity limit for cargo carrying aircraft. (mode 4)
14642-N |  | MEMC Pasadena, Inc., Pasadena, TX | 49 CFR 173.301(f) | To authorize the transportation in commerce of certain DOT Specification 3AAX cylinders containing Silicon tetrafluoride without pressure relief devices. (mode 1)
14643-N |  | World Airways, Inc., Peachtree City, GA | 49 CFR 175.3(b) | To authorize the transportation in commerce of hazardous materials by a US carrier engaged in cargo-only operations entirely outside of the United States without being subject to the US variations in the ICAO Technical Instructions. (mode 4)
14644-N |  | El Aero Services, Inc., Elko, NV | 49 CFR 172.101 HMT Column (9B), 172.200, 172.300, 172.400 | To authorize the transportation in commerce of certain hazardous materials by cargo aircraft only in remote areas of the US without being subject to hazard communication requirements and quantity limitations. (mode 4)

[FR Doc. 08-812 Filed 2-2-08; 8:45am]

BILLING CODE 4909-60-M